DEPARTMENT OF HEALTH AND HUMAN SERVICES

Administration for Children and Families

State Median Income Estimate for a Four-Person Family: Notice of the Federal Fiscal Year (FFY) 2012 State Median Income Estimates for Use Under the Low Income Home Energy Assistance Program (LIHEAP)

AGENCY: Administration for Children and Families, Office of Community Services, Division of Energy Assistance, HHS.

ACTION: Notice of State median income estimates for FFY 2012.

SUMMARY: This notice announces to LIHEAP grantees the estimated median income of four-person families in each State and the District of Columbia for FFY 2012 (October 1, 2011, to September 30, 2012). LIHEAP grantees that choose to base their income eligibility criteria on these State median income (SMI) estimates may adopt these estimates (up to 60 percent) on the estimates' date of publication in the Federal Register or on a later date as discussed below. This enables these grantees to implement this notice during the period between the heating and cooling seasons. However, by October 1, 2011, or the beginning of the grantees' fiscal years, whichever is later, these grantees must adjust their income eligibility criteria so that such criteria are in accord with the FFY 2012 SMI.

This listing of 60 percent of SMI provides one of the maximum income criteria that LIHEAP grantees may use in determining a household's income eligibility for LIHEAP.

LIHEAP appropriations for FFY 2009 through FFY 2010 raised this criterion from 60 percent of SMI to 75 percent of SMI for those years. The Continuing Resolutions covering FFY 2011 through the date of this publication have maintained this criterion at 75 percent of SMI. This criterion will remain at 75 percent SMI for FFY 2011 unless Congress acts otherwise after the date of this publication. This criterion will return to 60 percent of SMI for FFY 2012 unless Congress acts otherwise in providing FFY 2012 appropriations after the publication of this notice. This is because no change to the LIHEAP authorizing statute has been made.

DATES: Effective Date: For each LIHEAP grantee, these estimates become effective at any time between their date of publication in the Federal Register and the later of October 1, 2011, or the beginning of that grantee's fiscal year.

FOR FURTHER INFORMATION CONTACT: Peter Edelman, Office of Community Services, Division of Energy Assistance, 5th Floor West, 370 L'Enfant Promenade, SW., Washington, DC 20447, Telephone: (202) 401-5292, E-Mail: peter.edelman@acf.hhs.gov.

SUPPLEMENTARY INFORMATION: Under the provisions of section 2603(11) of Title XXVI of the Omnibus Budget Reconciliation Act of 1981, Public Law (Pub. L.) 97-35, as amended, HHS announces the estimated median income of four-person families for each State, the District of Columbia, and the United States for FFY 2012 (October 1, 2011, through September 30, 2012).

Section 2605(b)(2)(B)(ii) of this Act provides that 60 percent of the median income of four-person families for each State and the District of Columbia (State median income, or SMI), as annually established by the Secretary of Health and Human Services, is one of the income criteria that LIHEAP grantees may use in determining a household's eligibility for LIHEAP.

LIHEAP was last authorized by the Energy Policy Act of 2005, Public Law 109-58, which was enacted on August 8, 2005. This authorization expired on September 30, 2007, and reauthorization remains pending.

The SMI estimates that HHS publishes in this notice are three-year estimates derived from the American Community Survey (ACS) conducted by the U.S. Census Bureau, U.S. Department of Commerce (Census Bureau). HHS obtained these estimates directly from the Census Bureau. For additional information about the ACS State median income estimates, see http://www.census.gov/hhes/www/income/data/statemedian/index.html. For additional information about the ACS in general, see http://www.census.gov/acs/www/ or contact the Census Bureau's Housing and Household Economic Statistics Division at (301) 763-3243.

Under the advice of the Census Bureau, HHS switched to three-year estimates rather than single-year estimates to reduce the large year-to-year fluctuations that the single-year estimates tend to generate for certain States and the District of Columbia. HHS plans to use the Census Bureau's ACS-derived SMI three-year estimates for all fiscal years after 2010. For further information about ACS one-year and three-year estimates, see http://factfinder.census.gov/jsp/saff/SAFFInfo.jsp?_content=acs_guidance.html.

The SMI estimates, like those derived from any survey, are subject to two types of errors: (1) Nonsampling Error, which consists of random errors that increase the variability of the data and non-random errors that consistently direct the data into a specific direction; and (2) Sampling Error, which consists of the error that arises from the use of probability sampling to create the sample. For additional information about the accuracy of the ACS SMI estimates, see http://www.census.gov/acs/www/Downloads/data_documentation/Accuracy/MultiyearACSAccuracyofData2009.pdf.

A State-by-State listing of SMI and 60 percent of SMI for a four-person family for FFY 2012 follows. The listing describes the method for adjusting SMI for families of different sizes as specified in regulations applicable to LIHEAP, at 45 CFR 96.85(b), which were published in the Federal Register on March 3, 1988, at 53 FR 6824 and amended on October 15, 1999, at 64 FR 55858.

Dated: March 22, 2011.
Yolanda J. Butler,
Acting Director, Office of Community Services.

Estimated State Median Income for a Four-Person Family, by State, for Federal Fiscal Year (FFY) 2012, for Use in the Low Income Home Energy Assistance Program (LIHEAP)
States | Estimated State median income for four-person families¹ | 60 percent of estimated State median income for four-person families 2 3
Alabama | $63,888 | $38,333
Alaska | 86,515 | 51,909
Arizona | 69,119 | 41,471
Arkansas | 56,219 | 33,731
California | 78,666 | 47,200
Colorado | 80,717 | 48,430
Connecticut | 102,127 | 61,276
Delaware | 83,602 | 50,161
District of Columbia | 69,558 | 41,735
Florida | 67,705 | 40,623
Georgia | 68,908 | 41,345
Hawaii | 87,463 | 52,478
Idaho | 62,079 | 37,247
Illinois | 80,607 | 48,364
Indiana | 69,434 | 41,660
Iowa | 73,413 | 44,048
Kansas | 71,842 | 43,105
Kentucky | 63,825 | 38,295
Louisiana | 66,109 | 39,665
Maine | 68,237 | 40,942
Maryland | 101,997 | 61,198
Massachusetts | 100,058 | 60,035
Michigan | 73,433 | 44,060
Minnesota | 86,099 | 51,659
Mississippi | 55,809 | 33,485
Missouri | 70,232 | 42,139
Montana | 66,079 | 39,647
Nebraska | 70,665 | 42,399
Nevada | 71,230 | 42,738
New Hampshire | 91,832 | 55,099
New Jersey | 101,841 | 61,105
New Mexico | 54,500 | 32,700
New York | 82,531 | 49,519
North Carolina | 67,966 | 40,780
North Dakota | 74,177 | 44,506
Ohio | 72,817 | 43,690
Oklahoma | 61,881 | 37,129
Oregon | 72,093 | 43,256
Pennsylvania | 78,287 | 46,972
Rhode Island | 87,669 | 52,601
South Carolina | 64,228 | 38,537
South Dakota | 68,064 | 40,838
Tennessee | 63,480 | 38,088
Texas | 65,508 | 39,305
Utah | 70,322 | 42,193
Vermont | 74,877 | 44,926
Virginia | 85,546 | 51,328
Washington | 81,788 | 49,073
West Virginia | 58,739 | 35,243
Wisconsin | 77,946 | 46,768
Wyoming | 75,998 | 45,599
Note: FFY 2012 covers the period of October 1, 2011, through September 30, 2012. The estimated median income for four-person families living in the United States for this period is $74,985. These estimates become effective for LIHEAP at any time between the date of this publication and October 1, 2011, or the beginning of a LIHEAP grantee's fiscal year, whichever is later.
¹ Prepared by the U.S. Census Bureau, U.S. Department of Commerce (Census Bureau), from three-year estimates from the 2007, 2008 and 2009 American Community Surveys (ACSs). These estimates, like those derived from any survey, are subject to two types of errors: (1) Nonsampling Error, which consists of random errors that increase the variability of the data and non-random errors that consistently direct the data into a specific direction; and (2) Sampling Error, which consists of the error that arises from the use of probability sampling to create the sample.
² These figures were calculated by the U.S. Department of Health and Human Services, Administration for Children and Families, Office of Community Services, Division of Energy Assistance (DEA) by multiplying the estimated State median income for a four-person family for each State by 60 percent.
³ To adjust for different sizes of family, 45 CFR 96.85 calls for multiplying 60 percent of a State's estimated median income for a four-person family by the following percentages: 52 percent for one person, 68 percent for two persons, 84 percent for three persons, 100 percent for four persons, 116 percent for five persons, and 132 percent for six persons. For each additional family member above six persons, 45 CFR 96.85 calls for adding 3 percentage points to the percentage for a six-person family (132 percent) and multiply the new percentage by 60 percent of a State's estimated median income for a four-person family.

[FR Doc. 2011-8993 Filed 4-15-11; 8:45 am]

BILLING CODE 4184-24-P